DEPARTMENT OF ENERGY

National Energy Technology Laboratory; Notice of Availability of a Financial Assistance Solicitation

AGENCY: National Energy Technology Laboratory (NETL), Department of Energy (DOE).

ACTION: Notice of availability of a financial assistance solicitation.

SUMMARY: Notice is hereby given of the intent to issue Financial Assistance Solicitation No. DE-PS26-03NT41731 entitled “Development of Novel Sensors for Ultra High Temperature Fossil Fuel Applications.” The specific objective of this solicitation is to seek out new fundamental approaches to sensor concepts, materials, design, and fabrication that have potential application in the harsh environment of the advanced fossil fuel-based energy production systems. The types of projects sought through this solicitation include laboratory and bench-scale testing as well as fundamental research that addresses the barriers associated with ultra-high temperature operation.

DATES: The solicitation will be available on the “Industry Interactive Procurement System” (IIPS) webpage located at http://e-center.doe.gov on or about January 24, 2003. Applicants can obtain access to the solicitation from the address above or through DOE/NETL's Web site at http://www.netl.doe.gov/business.

FOR FURTHER INFORMATION CONTACT: Kelly A. McDonald, MS I07, U.S. Department of Energy, National Energy Technology Laboratory, 3610 Collins Ferry Road, P.O. Box 880, Morgantown, WV 26507-0880, E-mail Address: kelly.mcdonald@netl.doe.gov, Telephone Number: (304) 285-4113.

SUPPLEMENTARY INFORMATION: NETL's Advanced Research Program is leading the effort in innovative sensor development for fossil fuel applications including the power systems conceived under the Vision 21 Program, such as oxygen blown gasification and combustion systems. Real time monitoring, diagnostics and control are critical for the safe and efficient operation of the energy conversion systems. However, due to the harsh conditions, current instrumentation and sensor technology is inadequate for the systems. The lack of suitable on-line measurement technology represents the primary motivation for seeking out new developments in sensor technology. The specific objective of this solicitation is to seek out new fundamental approaches to sensor concepts, materials, design, and fabrication that have potential application in the harsh environment of the advanced fossil fuel-based energy production systems. The types of projects sought through this solicitation include laboratory and bench-scale testing as well as fundamental research that addresses the barriers associated with ultra-high temperature operation.

The research objectives are to:

(1) Develop an understanding of the sensor mechanisms acquired by nano-scale design,

(2) Develop technology for fusion of high temperature materials and advanced sensors,

(3) Develop long term high temperature data for life prediction and reliability,

(4) Devise life assessment models and experimental verification,

(5) Obtain a quantitative description of the evolutionary processes that lead to failure and predict response of sensor materials in complex environments,

(6) Miniaturize sensors, and

(7) Explore self-contained sensor intelligence based on smart materials.¹

¹ Smart materials may be defined as the materials that respond to environmental changes at optimal conditions and manifest their functions according to the changes. The generic term “smart materials” includes the materials and probes that can provide information on a coating or process material while in service. The information can be used via a suitable process control mechanism to assess remaining life as well as to regulate the operating conditions. Examples of smart materials are shape memory alloys, optical fiber hybrid composites, and piezoelectric hybrid composites.

While the solicitation seeks out fundamental developments, the ultimate goal of the sensor program is to develop devices that can used for the measurement of temperature, pressure, and detection of various gases (O2, H2, N2, H2S, CH4, etc.) under conditions of high temperature (1000°C) and elevated pressures (up to 500 psi). Low cost, in situ or embedded sensors that survive approximately one year of service in the presence corrosive and erosive conditions are ideal. The incorporation of self diagnostics/smart sensor functions is desired to verify performance and accuracy.

It is anticipated that this program solicitation will result in three (3) to six (6) awards. The period of performance for each award will range from one to three years with budget periods to be established independently based on the logical technical phases of each individual project. Cost sharing is encouraged, but not required under the subject program solicitation.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation. However, all questions relating to the solicitation must be submitted electronically through IIPS. All responses to questions, as well as all amendments to the solicitation, will be released on the IIPS homepage.

Issued in Pittsburgh, Pennsylvania, on January 9, 2003.
Dale A. Siciliano,
Acting Director, Acquisition and Assistance Division.

[FR Doc. 03-1096 Filed 1-16-03; 8:45 am]

BILLING CODE 6450-01-P